NUCLEAR REGULATORY COMMISSION

[Docket No. 72-17]

Trojan Nuclear Plant; Notice of Docketing of Materials License No. SNM-2509, Amendment Application for the Trojan Independent Spent Fuel Storage Installation

By letter dated February 19, 2001, Portland General Electric Company (PGE) submitted an application to the Nuclear Regulatory Commission (NRC or the Commission) in accordance with 10 CFR part 72 requesting an amendment of the Trojan Nuclear Plant independent spent fuel storage installation (ISFSI) license (SNM-2509) for the ISFSI located in Columbia County, Oregon. PGE is seeking Commission approval to revise the Trojan ISFSI Technical Specifications (Appendix A to the license) to conform to a change in the Code of Federal Regulations (10 CFR 72.48) which will become effective on April 5, 2001, and to make editorial corrections.

This application was docketed under 10 CFR part 72. The ISFSI Docket No. is 72-17 and will remain the same for this action. The amendment of an ISFSI license is subject to the Commission's approval.

The Commission may issue either a notice of hearing or a notice of proposed action and opportunity for hearing in accordance with 10 CFR 72.46(b)(1) or, if a determination is made that the amendment does not present a genuine issue as to whether public health and safety will be significantly affected, take immediate action on the amendment in accordance with 10 CFR 72.46(b)(2) and provide notice of the action taken and an opportunity for interested persons to request a hearing on whether the action should be rescinded or modified.

For further details with respect to this application, see the application dated February 19, 2001, which is available for public inspection at the Commission's Public Document Room, One White Flint North Building, 11555 Rockville Pike, Rockville, MD, or from the publicly available records component of NRC's Agencywide Documents Access and Management System (ADAMS). ADAMS is accessible from the NRC Web Site at http://www.nrc.gov/NRC/ADAMS/index.html (the Public Electronic Reading Room).

Dated at Rockville, Maryland, this 29th day of March 2001.
For the Nuclear Regulatory Commission.
E. William Brach,
Director, Spent Fuel Project Office, Office of Nuclear Material Safety and Safeguards.

[FR Doc. 01-8503 Filed 4-5-01; 8:45 am]

BILLING CODE 7590-01-P